DEPARTMENT OF COMMERCE

National Oceanic and Atmospheric Administration

RIN 0648-XG82

Endangered Species; File Nos. 13306 and 13307

AGENCY: National Marine Fisheries Service (NMFS), National Oceanic and Atmospheric Administration (NOAA), Commerce.

ACTION: Notice; receipt of applications.

SUMMARY: Notice is hereby given that Karen Holloway-Adkins, East Coast Biologists, Inc., P.O. Box 33715, Indialantic, FL 32903 (File No. 13306) and Kristen Hart, 600 4th Street South, St. Petersburg, FL, 33701 (File No. 13307) have applied in due form for permits to take green (Chelonia mydas), loggerhead (Caretta caretta), and hawksbill (Eretmochelys imbricata) sea turtles for purposes of scientific research.

DATES: Written, telefaxed, or e-mail comments must be received on or before May 2, 2008.

ADDRESSES: The applications and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File Nos. 13306 and/or 13307.

FOR FURTHER INFORMATION CONTACT: Kate Swails or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

File No. 13306: Ms. Holloway-Adkins proposes to capture up to 60 green and 5 loggerhead sea turtles annually. The turtles would be weighed, measured, flipper tagged, Passive Integrated Transponder (PIT) tagged, and blood and tissue sampled. A subset of green turtles would be lavaged. The applicant would also conduct visual transect surveys. This research would characterize the turtle aggregation using the nearshore reef system of Brevard county, Florida as well as monitor the impact of local beach nourishment activities on the sea turtles and their habitat.

File No. 13307: Dr. Hart proposes to capture up to 30 green, 20 hawksbill, and 20 loggerhead sea turtles annually. Turtles would be weighed, measured, flipper tagged, PIT tagged, blood sampled, tissue sampled, fecal sampled, and lavaged. A subset of turtles would be tagged with a satellite tag or acoustic transmitter or a combination of both. This research would address fine-scale temporal and spatial patterns of sea turtle habitat use, ecology, and genetic origin within the Dry Tortugas National Park.

Both permits would be issued for five years.

Dated: March 27, 2008.
P. Michael Payne,
Chief, Permits, Conservation and Education Division, Office of Protected Resources, National Marine Fisheries Service.

[FR Doc. E8-6850 Filed 4-1-08; 8:45 am]

BILLING CODE 3510-22-S